DEPARTMENT OF TRANSPORTATION

Federal Aviation Administration

[Docket No. FAA-2020-0611]

Agency Information Collection Activities: Requests for Comments; Clearance of Renewed Approval of Information Collection: Voluntarily Implement a Safety Management System (SMS)

AGENCY: Federal Aviation Administration (FAA), Transportation (DOT).

ACTION: Notice and request for comments.

SUMMARY: In accordance with the Paperwork Reduction Act of 1995, FAA invites public comments about our intention to request the Office of Management and Budget's (OMB) approval to renew an information collection. The information collection is for entities who voluntarily follow the guidance in FAA Advisory Circular (AC) 120-119, Voluntary Safety Management System for Other Regulated Entities Transporting Dangerous Goods by Air, on how to use the SMS principles included in part 5, as a basis to develop and implement a voluntary SMS program and how to submit such a voluntary program to the FAA's Office of Hazardous Materials Safety (AXH) for acceptance. Information received from the first collection will be used to determine compliance with FAA SMS regulations. With the exception of a one-time submission of an implementation plan, the data will not be submitted to the FAA. The records for Safety Policy, Safety Risk Management, and Safety Assurance processes, training, and communications are kept under Safety Promotion and will be kept by the organization and used in its SMS.

DATES: Written comments should be submitted by August 9, 2021.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street NW, Washington, DC 20503.

Public Comments Invited: You are asked to comment on any aspect of this information collection, including (a) whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

FOR FURTHER INFORMATION CONTACT: Andrea Giordani, Security and Hazardous Materials Safety, Office of Hazardous Materials Safety (AXH-002), Federal Aviation Administration, 800 Independence Avenue SW, Washington, DC 20591; (202) 267-3770.

SUPPLEMENTARY INFORMATION:

OMB Control Number: To be determined.

Title: Voluntarily Implement a Safety Management System (SMS).

Form Numbers: N/A.

Type of Review: Clearance of a new information collection.

Background: Advisory Circular (AC) No. 120-119 provides information on how entities subject to the regulatory requirements of Title 49 of the Code of Federal Regulations (CFR) parts 171-180 (e.g., entities performing functions such as, but not limited to, handling or shipping of dangerous goods by air and hereinafter referred to as “other regulated entities”) may choose to voluntarily implement a Safety Management System (SMS) as described in Title 14 CFR, part 5—Safety Management Systems.

This AC addresses general SMS principles and explains certain regulatory requirements outlined in 14 CFR part 5. While part 5 does not apply to voluntary SMS programs, it describes the general SMS framework and serves as a non-binding basis for the development and implementation of voluntary SMS programs. This AC provides guidance to organizations on how to use the SMS principles included in part 5, as a basis to develop and implement a voluntary SMS program and how to submit such a voluntary program to the FAA's Office of Hazardous Materials Safety (AXH) for acceptance.

The organization collects and analyzes safety data and maintains training and communications records for its SMS. Data and records are essential for an SMS. Any organization that volunteers for this process is required to maintain records of SMS outputs, training records, and communications materials used to promote safety. An organization may create a gap analysis to identify what already exists within that organization and what needs to be created to complete the SMS implementation plan. The organization's implementation plan is submitted once to FAA for approval. As needed, other information may be requested or submitted as part of ongoing SMS evaluation.

Respondents: The FAA estimates that a total of three companies will voluntarily implement an SMS.

Frequency: The FAA assumes that the implementation plan is a one-time burden that takes place over three (3) years for organizations that choose to comply.

Estimated Average Burden per Response: 6,680 hours reporting and 170 hours recordkeeping.

Estimated Total Annual Burden: 20,040 hours reporting and 6,120 hours recordkeeping.

Issued in Washington, DC, on June 3, 2021.
Daniel Benjamin Supko,
Executive Director, FAA, Office of Hazardous Materials Safety.

[FR Doc. 2021-11971 Filed 6-7-21; 8:45 am]

BILLING CODE 4910-13-P